DEPARTMENT OF TRANSPORTATION

Pipeline and Hazardous Materials Safety Administration

Office of Hazardous Materials Safety; Notice of Application for Special Permits

AGENCY: Pipeline and Hazardous Materials Safety Administration (PHMSA), DOT.

ACTION: List of applications for special permits.

SUMMARY: In accordance with the procedures governing the application for, and the processing of special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before October 26, 2009.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION, CONTACT: Copies of the applications are available for inspection in the Records Center, East Building, PHH-30, 1200 New Jersey Avenue, SE., Washington DC or at http://regulations.gov.

This notice of receipt of applications for special permit is published in accordance with Part 107 of the Federal hazardous materials transportation law (49 U.S.C. 5117(b); 49 CFR 1.53(b)).

Issued in Washington, DC, on September 11, 2009.
Delmer F. Billings,
Director, Office of Hazardous Materials Special Permits and Approvals.

Application No. | Docket No. | Applicant | Regulation(s) affected | Nature of special permits thereof
NEW SPECIAL PERMITS
14895-N |  | Hubbard-Hall Inc., Waterbury, CT | 49 CFR 173.158 | To authorize the manufacture, marking, sale and use of 55-gallon UN 1H1 drums for transportation of up to 70% nitric acid. (mode 1).
14896-N |  | Department of Defense, Scott AFB, IL | 49 CFR 172.504 and 172.514 | To authorize the transportation in commerce of the HEMTT M978 Tanker containing the residue of Class 3 fuel oil (less than 5 gallons) without placarding when transported by motor vehicle. (mode 1).
14897-N |  | AMKO Service Company, Midvale, OH | 49 CFR 173.302a, 180.205, 180.209 180.213 | To authorize the transportation in commerce of certain DOT specification cylinders that have been testing using Acoustic Emission/Ultrasonic Examination every ten years rather than every five years. (modes 1, 2, 3, 4).
14899-N |  | MGH Management Group, LLC | 49 CFR 177.834(h), 178.700 | To authorize the manufacture, marking, sale and use of 50 gallon to 105 gallon refueling tanks containing certain Class 3 liquids which will be discharged without removal from the motor vehicle. (mode 1).
14900-N |  | BE Aerospace, Lenexa, KS | 49 CFR 173.304(f)(3)(ii) and (f)(4) | To authorize the transportation in commerce of products containing chemical oxygen generators without an outer packaging that is capable of passing the Flame Penetration and Resistance Test and the Thermal Resistance Test. (mode 4).

[FR Doc. E9-22890 Filed 9-24-09; 8:45 am]

BILLING CODE 4909-60-M